DEPARTMENT OF ENERGY

Federal Energy Regulatory Commission

Notice of Meeting

September 15, 2010.

The Federal Energy Regulatory Commission (Commission) hereby gives notice that a meeting will be held, as noted below, to present the final results of the cost benefit analysis conducted by Charles River Associates and Resero Consulting to study the effects of Entergy Services, Inc. and Cleco Power joining the Southwest Power Pool regional transmission organization. This meeting may be attended by Commissioners and other Commission staff.

September 30, 2010 (9 a.m.-12 p.m.), Astor Crowne Plaza, 739 Canal Street, New Orleans, LA 70130, 504-962-0500.

The discussions may address matters at issue in the following proceedings:

Docket No. OA07-32 | Entergy Services, Inc.
Docket No. OA08-59 | Entergy Services, Inc.
Docket No. EL00-66 | Louisiana Public Service Commission v. Entergy Services, Inc.
Docket No. EL01-88 | Louisiana Public Service Commission v. Entergy Services, Inc.
Docket No. EL05-15 | Arkansas Electric Cooperative Corp. v. Entergy Arkansas, Inc.
Docket No. EL07-52 | Louisiana Public Service Commission v. Entergy Services, Inc.
Docket No. EL08-51 | Louisiana Public Service Commission v. Entergy Services, Inc.
Docket No. EL08-60 | Ameren Services Co. v. Entergy Services, Inc.
Docket No. EL09-43 | Arkansas Public Service Commission v. Entergy Services, Inc.
Docket No. EL09-61 | Louisiana Public Service Commission v. Entergy Services, Inc.
Docket No. EL09-78 | South Mississippi Electric Power Association v. Entergy Services, Inc.
Docket No. EL10-55 | Louisiana Public Service Commission v. Entergy Services, Inc.
Docket No. EL10-65 | Louisiana Public Service Commission v. Entergy Services, Inc.
Docket No. ER05-1065 | Entergy Services, Inc.
Docket No. ER07-682 | Entergy Services, Inc.
Docket No. ER07-956 | Entergy Services, Inc.
Docket No. ER08-767 | Entergy Services, Inc.
Docket No. ER08-1056 | Entergy Services, Inc.
Docket No. ER08-1057 | Entergy Services, Inc.
Docket No. ER09-636 | Entergy Services, Inc.
Docket No. ER09-833 | Entergy Services, Inc.
Docket No. ER09-877 | Entergy Services, Inc.
Docket No. ER09-882 | Entergy Services, Inc.
Docket No. ER09-1214 | Entergy Services, Inc.
Docket No. ER09-1224 | Entergy Services, Inc.
Docket No. ER10-794 | Entergy Services, Inc.
Docket No. ER10-879 | Entergy Services, Inc.
Docket No. ER10-984 | Entergy Services, Inc.
Docket No. ER10-1350 | Entergy Services, Inc.
Docket No. ER10-2246 | Entergy Services, Inc.
Docket No. ER10-2247 | Entergy Services, Inc.
Docket No. ER10-2267 | Entergy Services, Inc.
Docket No. ER10-2292 | Entergy Services, Inc.
Docket No. ER10-2299 | Entergy Services, Inc.

This meeting is open to the public.

For more information, contact Patrick Clarey, Office of Energy Market Regulation, Federal Energy Regulatory Commission at (317) 249-5937 or patrick.clarey@ferc.gov.

Kimberly D. Bose,
Secretary.

[FR Doc. 2010-23626 Filed 9-21-10; 8:45 am]

BILLING CODE 6717-01-P